DEPARTMENT OF AGRICULTURE

National Agricultural Statistics Service

Notice of Intent To Request To Conduct a New Information Collection

AGENCY: National Agricultural Statistics Service, USDA.

ACTION: Notice and request for comments.

SUMMARY: In accordance with the Paperwork Reduction Act of 1995 this notice announces the intention of the National Agricultural Statistics Service (NASS) to seek approval to conduct a new information collection to obtain labor related data from contractors who provide laborers to the farming industry. This data will supplement the labor data that NASS currently collects from farmers under OMB docket number 0535-0109. This new survey is in response to a USDA departmental request. The data collection periods will be aligned with the current Agricultural Labor Survey, so that the estimates will represent the same data reference periods.

DATES: Comments on this notice must be received by May 29, 2018 to be assured of consideration.

ADDRESSES: You may submit comments, identified by docket number 0535-NEW, by any of the following methods:

• Email: OMBofficer@nass.usda.gov. Include docket number above in the subject line of the message.

• eFax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-4333. Copies of this information collection and related instructions can be obtained without charge from David Hancock, NASS—OMB Clearance Officer, at (202) 690-2388 or at ombofficer@nass.usda.gov.

SUPPLEMENTARY INFORMATION:

Title: Contract Labor Survey.

OMB Control Number: 0535-NEW.

Type of Request: Intent to seek approval to conduct a new information collection for a period of three years.

Abstract: The primary objective of the National Agricultural Statistics Service is to prepare and issue State and national estimates of crop and livestock production, disposition, and prices. The current Agricultural Labor Survey (0535-0109) provides quarterly statistics on the number of non-contract agricultural workers, hours worked, and wage rates. Under the new Contract Labor Survey, NASS will collect essentially the same type of data that is collected in the current labor survey, however it will collect data from a different target population. NASS plans to conduct a pilot study in October 2018 with approximately 1,000 contractors. NASS does not plan to publish the findings from the pilot study, but will use the data to fine tune the data collection, summary, and estimation systems. The first round of data collection using the full sample is scheduled to take place in April 2019. After data collection, NASS will conduct a thorough data analysis for comparability and consistency of survey results. The first publication of data is scheduled to occur after the completion of the October 2019 survey.

Contractors who provide workers to farm operations for both full-time and part-time work will be asked to provide the number of workers they place by: Worker code (type of work each individual was hired to do), total hours worked, total gross wages, total base wages and total incentive/overtime wages for the reference week. If the contractor places more than one person to conduct the same type of work they can combine these data and report for the group. The number of workers, hours worked, and type of work performed may be used to enhance NASS's estimates of agricultural productivity.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: This information collection consists of a pilot study being conducted in October of 2018 involving approximately 1,000 contractors. In April 2019, NASS plans to conduct the first live survey of the entire population of contractors, approximately 12,500. The contractors will be contacted twice a year, once in April, to collect data for the January and April quarters and in October to collect data for both the July and October quarters. The public reporting burden for this information collection is estimated to average 60 minutes per response in April and October. Some additional burden has been included to account for the publicity material and instruction form that will be sent out with each questionnaire.

Respondents: Farm Labor Contractors.

Estimated Number of Respondents: 12,500.

Estimated Total Annual Burden on Respondents: 18,000 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; specifically, on the benefits of collection of hourly base rate of pay, piece rate of pay, and experience level and (d) ways to minimize the burden of the collection of information on those who are to respond, through the use of appropriate automated, electronic, mechanical, technological or other forms of information technology collection methods.

All responses to this notice will become a matter of public record and be summarized in the request for OMB approval.

Signed at Washington, DC, March 15, 2018.
Kevin L. Barnes,
Associate Administrator.

[FR Doc. 2018-06438 Filed 3-29-18; 8:45 am]

BILLING CODE 3410-20-P